DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: National Outcome Measures for Substance Abuse Prevention (OMB No. 0930-0230)—Revision

The Substance Abuse and Mental Health Services Administration's (SAMHSA) Center for Substance Abuse Prevention (CSAP) is requesting Office of Management and Budget (OMB) approval for CSAP's data collection set of National Outcome Measures (NOMs) identified for the field of prevention. The current approval, under OMB No. 0930-0230, is expiring on December 31, 2008. All new grantees initially funded at the end of FY08 and beyond (subject to OMB approval) will be required to use these measures as appropriate at the State, substate, program and participant levels. CSAP is requesting approval to continue collecting data using measures in the following domains: Abstinence from Alcohol and Other Drugs, Employment/Education, Crime and Criminal Justice, Access/Service Capacity, Retention, Social Support/Social Connectedness, Cost-Effectiveness, and Use of Evidence-Based Practices. These NOMs relate to youth ages 12 to 17 and to adults ages 18 and older.

CSAP is proposing to eliminate 22 of the 49 measures that received OMB clearance in 2005, to reduce reporting burden for grantees. CSAP also requests permission to make minor changes to the question wording and response categories for some of the remaining measures. Since the National Survey of Drug Use and Health (NSDUH) provides an economical extant source of data for NOMs measures at the State level, it is important that the NOMs conform to NSDUH question wording. CSAP believes NOMs measures are necessary to assess the performance of its prevention programs. Based on its long history working with States, communities, and prevention providers, the Data Analysis Coordination and Consolidation Center (DACCC) and outside expert panels believe consistent prevention measures allow for valid comparison evaluations. CSAP is requesting to modify the wording of 12 previously approved questions in order to make them comparable to individual NOMs items. For example, NSDUH items on 30-day use ask respondents to report the number of days on which they used specific substances. Three currently approved NOMs 30-day use questions ask respondents for the number of occasions on which they used substances. CSAP would like to change the wording of these questions and their corresponding response options to conform to NSDUH wording. Second, response options for NSDUH questions typically include a Don't Know response option. CSAP is requesting modification of nine currently approved NOMs questions to include this response option.

CSAP intends to implement the following approach in collecting NOMs data:

Required NOMs Data for States. CSAP pre-populates State level NOMs measures for all but three domains using data from the NSDUH. States supply the data on the number of persons served, cost efficiency, and evidence based practices from their own administrative databases.

Required NOMs Data for Discretionary Grantees. SAMHSA's CSAP has identified specific outcome measures that are required of non-State discretionary grant recipients. These NOMs represent the domains noted above and relate to youth ages 12 to 17 and to adults ages 18 and older. Grantees providing services are required to administer surveys to all participants at program entry (baseline), program exit, and three to six months following program exit.

CSAP believes that the NOMs measures are necessary to assess the performance of its prevention programs; based on its long history working with States, communities, and prevention providers, and on input from its Data Analysis Coordination and Consolidation Center (DACCC) and from outside expert panels who made recommendations based on a review of existing measures using standard criteria. Additionally, we believe that these measures can be collected at the National, State, substate, and/or program level as appropriate, providing the consistency of measurement towards which we strive. NOMs epidemiologic measures are already collected by other agencies and no burden will be imposed on SAMHSA/CSAP grantees. The NOMs measures will be used as follows:

National/State: Outcome trend measures are used to identify need and monitor global effectiveness at the population level, for the purpose of informing Federal resource allocation decisions.

Community: Outcome trend measures are used to (1) determine need and target resources to communities at greatest risk and (2) track performance of universal programs and environmental strategies. The data will inform allocation of community resources.

Program: Outcome pre/post measures are used to assess program performance of direct service programs at the individual program participant level.

Burden Estimate
SAMHSA/CSAP program | Number of grantees | Number of respondents | Responses per respondent | Hours/ response | Total hours
FY 09
Science/Services: |  |  |  |  |
Fetal Alcohol | 6 | 4,800 | 3 | 0.75 | 10,800
Workplace | 6 | 6,000 | 1 | 0.75 | 4,500
Capacity:
HIV/Targeted Capacity | 135 | 35,300 | 3 | 0.75 | 79,425
SPF SIG | 42 |  | 1 | 0.75 | 0
SPF SIG/Community Level * |  | 480 | 1 | 0.75 | 360
SPF SIG/Program Level * |  | 12,000 | 1 | 0.75 | 9,000
Methamphetamine | 12 | 3,000 | 3 | 0.75 | 6,750
FY10
Science/Services: |  |  |  |  |
Fetal Alcohol | 6 | 4,800 | 3 | 0.75 | 10,800
Workplace | 6 | 6,000 | 2 | 0.75 | 9,000
Capacity: |  |  |  | 0.75 | 0
HIV/Targeted Capacity | 135 | 35,300 | 3 | 0.75 | 79,425
SPF SIG | 42 |  | 1 | 0.75 | 0
SPF SIG/Community Level * |  | 480 | 1 | 0.75 | 360
SPF SIG/Program Level * |  | 12,000 | 1 | 0.75 | 9,000
Methamphetamine | 12 | 3,000 | 3 | 0.75 | 6,750
FY11
Science/Services: |  |  |  |  |
Fetal Alcohol | 6 | 4,800 | 3 | 0.75 | 10,800
Workplace | 6 | 6,000 | 3 | 0.75 | 13,500
Capacity
HIV/Targeted Capacity | 135 | 35,300 | 3 | 0.75 | 79,425
SPF SIG | 42 |  | 1 | 0.75 | 0
SPF SIG/Community Level * |  | 480 | 1 | 0.75 | 360
SPF SIG/Program Level * |  | 1,200 | 1 | 0.75 | 900
Methamphetamine | 12 | 3,000 | 3 | 0.75 | 6,750
Annual Average |  | 10,196 |  | 0.75 | 15,359
* The Strategic Prevention Framework State Incentive Grant (SPF SIG) has a three level evaluation: The Grantee, Community and Program Level. The Grantee level data will be pre-populated by SAMHSA. The use of the Community Level instrument is optional as they relate to targeted interventions implemented during the reporting period. At the program level, items will be selected to direct services implemented.

Send comments to Summer King, SAMHSA Reports Clearance Officer, Room 7-1044, One Choke Cherry Road, Rockville, MD 20857 AND e-mail her a copy at summer.king@samhsa.hhs.gov. Written comments should be received within 60 days of this notice.

Dated: September 12, 2008.
Elaine Parry,
Acting Director, Office of Program Services.

[FR Doc. E8-22053 Filed 9-19-08; 8:45 am]

BILLING CODE 4162-20-P